DEPARTMENT OF TRANSPORTATION

Pipeline and Hazardous Materials Safety Administration

[Docket No.: PHMSA-2022-0008; Notice No. 2022-03]

Hazardous Materials: Request for Comments on Issues Concerning International Atomic Energy Agency Regulations for the Safe Transport of Radioactive Materials

AGENCY: Pipeline and Hazardous Materials Safety Administration (PHMSA), Department of Transportation (DOT).

ACTION: Notice; request for comments.

SUMMARY: PHMSA and the U.S. Nuclear Regulatory Commission are jointly seeking comments on issues concerning requirements in the International Atomic Energy Agency (IAEA) regulations for the safe transport of radioactive materials. The IAEA is considering revisions to their regulations as part of its periodic review cycle for a new edition.

DATES: Submit comments by March 4, 2022. Comments received after this date will be considered if it is practical to do so; however, we are only able to assure consideration for proposals received on or before this date.

ADDRESSES: You may submit comments identified by the docket number (PHMSA-2022-0008) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE, Washington, DC 20590.

• Hand Delivery: To Docket Operations, Room W12-140 on the ground floor of the West Building, 1200 New Jersey Avenue SE, Washington, DC 20590, between 9 a.m. and 5 p.m., Monday through Friday, except federal holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

Confidential Business Information (CBI): CBI is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN.” PHMSA will treat such marked submissions as confidential under the FOIA, and they will not be placed in the public docket of this notice. Submissions containing CBI should be sent to Rick Boyle, Sciences and Engineering Division, (202) 366-4545, Pipeline and Hazardous Materials Safety Administration, U.S. Department of Transportation, 1200 New Jersey Avenue SE, Washington, DC 20590-0001. Any commentary that PHMSA receives which is not specifically designated as CBI will be placed in the public docket for this notice.

FOR FURTHER INFORMATION CONTACT: Mr. Rick Boyle, Sciences and Engineering Division, (202) 366-4545, Pipeline and Hazardous Materials Safety Administration.

SUPPLEMENTARY INFORMATION:

I. Background

The International Atomic Energy Agency (IAEA) works with its Member States and multiple partners worldwide to promote safe, secure, and peaceful nuclear technologies. The IAEA established and maintains an international standard, Regulations for the Safe Transport of Radioactive Material (SSR-6 (Rev. 1)), to promote the safe and secure transportation of radioactive material. The IAEA periodically reviews and, as deemed appropriate, revises its regulations to reflect new information and accumulated experience. The Department of Transportation (DOT) is the U.S. competent authority for radioactive material transportation matters. The U.S. Nuclear Regulatory Commission (NRC) provides technical support to DOT in this regard, particularly regarding Type B and other fissile transportation packages.

The IAEA recently initiated a review cycle for its regulations. This is a first step in the review cycle for the IAEA transport regulations, but it does not constitute a decision to revise the transport regulations. To assure opportunity for public participation in the international regulatory development process, DOT and NRC are soliciting comments and information pertaining to issues with the IAEA regulations.

The focus of this solicitation is to identify issues or concerns with SSR-6 (Rev. 1). SSR-6 (Rev. 1) can be found online at https://www-pub.iaea.org/MTCD/Publications/PDF/PUB1798_web.pdf.

The IAEA requests that any proposal for a change in the transport regulations should demonstrate that the proposed change is:

• Required to ensure safety and to protect people, property, and the environment from harmful effects of ionizing radiation during the transport of radioactive material.

• Needed to define or redefine the level of protection of people, property, and the environment from harmful effects of ionizing radiation during the transport of radioactive material.

• Required for consistency within the Transport Regulations.

• Required as a result of advances in technology.

• Needed to improve implementation of the Transport Regulations.

The IAEA also requests that a submission of an identified problem in the regulations for which new text is not proposed should also demonstrate a clear link to the criteria outlined above. Comments and proposed changes should reference the particular paragraphs of concern in SSR-6 (Rev. 1).

This information, and any associated discussions, will assist DOT in examining the full range of views and alternatives as the agency develops proposals to be submitted to the IAEA for consideration. DOT has not yet fully harmonized its US regulations with the 2012 and 2018 editions of SSR-6. DOT will follow its normal rulemaking procedures in any action to harmonize requirements for domestic and international transportation of radioactive materials. This call for input to the IAEA process is separate from any future or current domestic rulemakings.

II. Public Participation

PHMSA and the NRC are jointly seeking comments on issues concerning requirements in SSR-6 (Rev. 1). The IAEA is considering revisions to the SSR-6 (Rev. 1) regulations as part of its periodic review cycle for a new edition. Proposals must be submitted in writing (electronic file in Microsoft Word format preferred).

DOT and NRC will review the proposed issues and identified problems. Proposed issues and identified problems from all Member States and International Organizations will be initially considered at an IAEA Transport Safety Standards Committee (TRANSSC) Meeting to be convened by IAEA on June 20-24, 2022, in Vienna, Austria. The subsequent meeting of TRANSSC, to be held in November 2022, will determine whether the aggregate of the accepted proposed changes amounts to a change in requirements that is important in terms of safety. If this is the case, a revision of the transport regulations will be initiated by the IAEA. If there is no safety imperative, the issues agreed upon will be considered during the next review cycle scheduled to start in 2023.

Issued in Washington, DC, on February 11, 2022.
William S. Schoonover,
Associate Administrator for Hazardous Materials Safety, Pipeline and Hazardous Materials Safety Administration.

[FR Doc. 2022-03393 Filed 2-16-22; 8:45 am]

BILLING CODE 4910-60-P